ENVIRONMENTAL PROTECTION AGENCY

[FRL-7822-8]

Valley Chemical Superfund Site Notice of Proposed Settlement

AGENCY: Environmental Protection Agency (EPA).

ACTION: Notice of proposed settlement.

SUMMARY: The United States Environmental Protection Agency is proposing to enter into an Agreement that will settle a section 106(b) Petition that Hercules filed in 1997 pursuant to section 122 of the Comprehensive Environmental Response, Compensation, and Liability Act (CERCLA), 42 U.S.C. 9622(h)(1) concerning the Valley Chemical Superfund Site in Greenville, Washington County, Mississippi. In the Agreement, Hercules agrees to drop its section 106(b) Petition in exchange for addressing past costs at three other sites in Region 4. The sites are the Terry Creek Dredge Spoil Area/Hercules Outfall Superfund Site located in Brunswick, Glynn County, Georgia; the Hercules 009 Landfill Superfund Site located in Brunswick, Glynn County, Georgia; and the T.H. Agriculture & Nutrition Company Superfund Site located in Albany, Dougherty County, Georgia. EPA will consider public comments on the proposed settlement until November 1, 2004. EPA may withdraw from or modify the proposed settlement should such comments disclose facts or considerations which indicate the proposed settlement is inappropriate, improper or inadequate. Copies of the proposed settlement are available from: Ms. Paula V. Batchelor, U.S. EPA, Region 4, (WMD-SEIMB), 61 Forsyth Street, SW, Atlanta, Georgia 30303, (404) 562-8887, Batchelor.Paula@EPA.GOV.

Written comments may be submitted to Ms. Batchelor within 30 calendar days of the date of this publication.

Dated: September 20, 2004.
Rosalind Brown,
Chief, Superfund Enforcement & Information Management Branch, Waste Management Division.

[FR Doc. 04-22086 Filed 9-30-04; 8:45 am]

BILLING CODE 6560-50-P